DEPARTMENT OF TRANSPORTATION

Federal Aviation Administration

Notice of Passenger Facility Charge (PFC) Approvals and Disapprovals

AGENCY: Federal Aviation Administration (FAA), DOT.

ACTION: Monthly Notice of PFC Approvals and Disapprovals. In December 2000, there were seven applications approved. Additionally, 11 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph d of § 158.29.

PFC Applications Approved

Public Agency: Milwaukee County, Milwaukee, Wisconsin.

Application Number: 00-06-U-00-MKE.

Application Type: Use PFC revenue.

PFC Level: $3.00.

Total PFC Revenue to be used in this Decision: $2,158,333.

Charge Effective Date: April 1, 1999.

Estimated Charge Expiration Date: May 1, 2004.

Class of Air Carriers Not Required to Collect PFC's: No charge from previous decision.

Brief Description of Projects Approved for Use: Surface movement guidance control system. School/church sound insulation, phase II.

Decision Date: December 5, 2000.

FOR FURTHER INFORMATION CONTACT: Sandra E. DePottey, Minneapolis Airports District Office, (612) 713-4363.

Public Agency: Monterey Peninsula Airport District, Monterey, California.

Application Number: 00-06-C-00-MRY.

Application Type: Impose and use a PFC.

PFC Level: $3.00.

Total PFC Revenue Approved in this Decision: $335,031.

Earliest Charge Effective Date: March 1, 2001.

Estimated Charge Expiration Date: September 1, 2001.

Class of Air Carriers Not Required to Collect PFC's: Unscheduled Part 135 air taxis.

Determination: Approved. Based on information contained in the public agency's application, the FAA has determined that the approved class accounts for less than 1 percent of the total annual enplanements at Monterey Peninsula Airport.

Brief Description of Projects Approved for Collection and Use:

Rehabilitate terminal storm drain.

Expand safety building.

Reconstruct southeast hangar pavement.

Year 2000 assessment/upgrade security access system.

South ramp security fence.

Taxiway D reconstruction.

Southeast water main extension.

Upgrade airfield lighting system.

South ramp storm drain extension.

Environmental study for runway 10R/28L service road.

Environmental study for airport road extension, phases 2 and 3.

North side perimeter fence replacement.

Upper mezzanine elevator.

Fire apparatus pump upgrade.

Brief Description of Disapproved Project: Vegetation/wildlife management plan.

Determination: Disapproved. This project is not eligible planning or development under the Airport Improvement Program (AIP), appendix 2, FAA Order 5100.38A, AIP Handbook (October 24, 1989). The project description submitted in the application did not include sufficient detail to allow the FAA to make a positive eligibility determination. Therefore, this project does not meet the requirements of § 158.15(b).

Decision Date: December 6, 2000.

FOR FURTHER INFORMATION CONTACT: Marlys Vandervelde, San Francisco Airports District Office, (650) 876-2806.

Public Agency: City of Billings, Aviation and Transit Department, Billings, Montana.

Application Number: 00-03-C-00-BLI.

Application Type: Impose and use a PFC.

PFC Level: $3.00.

Total PFC Revenue Approved in this Decision: $4,153,600.

Earliest Charge Effective Date: February 1, 2001.

Estimated Charge Expiration Date: October 1, 2005.

Class of Air Carriers Not Required to Collect PFC's: None.

Brief Description of Projects Approved for Collection and Use:

Installation of a second inbound baggage belt.

Terminal area ramp lighting additions.

Terminal passenger access and Americans with Disabilities Act improvements.

Terminal boiler replacement.

Terminal concourse window replacements and lighting upgrades.

Deicing facility.

Snow removal equipment purchases.

Airfield electrical vault and airfield lighting control upgrades.

Brief Description of Withdrawn Projects:

Noise reducing run-up area.

Operations center equipment bay addition.

Determination: These projects were withdrawn from the application by the public agency by letter dated July 11, 2000. Therefore, the FAA did not rule on these projects in this decision.

Financing costs for project construction.

Determination: This project was withdrawn as a stand-alone project by the public agency by letter dated September 22, 2000. This same letter requested that the FAA incorporate the proposed financing costs into the related construction project, deicing facility. Therefore, the FAA considered the financing costs in its deliberations on the overall construction project, which was approved.

Decision Date: December 9, 2000.

FOR FURTHER INFORMATION CONTACT: David P. Gabbert, Helena Airports District Office, (406) 449-5271.

Public Agency: City of San Jose, California.

Application Number: 00-09-C-00-SJC.

Application Type: Impose and use a PFC.

PFC Level: $3.00.

Total PFC Revenue Approved in this Decision: $29,780,000.

Earliest Charge Effective Date: September 1, 2003.

Estimated Charge Expiration Date: January 1, 2005.

Class of Air Carriers Not Required to Collect PFC's: Air taxi/commercial operators filing FAA form 1800-31.

Determination: Approved. Based on information contained in the public agency's application, the FAA has determined that the approved class accounts for less than 1 percent of the total annual enplanements at San Jose International Airport.

Brief Description of Products Approved for Collection and Use:

Taxiway Z—apron reconstruction (phase II).

Terminal C fire protection.

Fiber Optic cable to airport response center and fire station 20.

Green Island bridge.

Replacement of security access control system and closed circuit television system.

Skyport grade separation.

Terminal Drive improvements.

Replacement of passive secondary surveillance radar.

Terminal C restroom upgrade.

Interim air cargo ramp expansion.

Decision Date: December 15, 2000.

FOR FURTHER INFORMATION CONTACT:

Marlys Vandervelde, San Francisco Airports District Office, (650) 876-2806.

Public Agency: Luzerne and Lackawanna County Bi-County Airport Board of Commissioners, Avoca, Pennsylvania.

Application Number: 00-03-C-00-AVP.

Application Type: Impose and use a PFC.

PFC Level: $4.50.

Total PFC Revenue Approved in this Decision: $9,918,271.

Earliest Charge Effective Date: May 1, 2001.

Estimated Charge Expiration Date: November 1, 2010.

Class of Air Carriers Not Required to Collect PFC's: Non-scheduled/on demand air carriers, with seating capacity of less than 20 seats, filing FAA Form 1800-31.

Determination: Approved. Based on information contained in the public agency's application, the FAA has determined that the approved class accounts for less than 1 percent of the total annual enplanements at Wilkes-Barre/Scranton International Airport.

Brief Description of Projects Approved for Collection and Use:

Construct new passenger terminal.

Construct access roads and non-revenue surface parking.

Construct passenger terminal apron.

Master plan update.

Design runway safety area.

Brief Description of Project Approved in Part for Collection and Use: Architectural/engineer construction inspection fees.

Determination: Partially approved. Contingency fees are not eligible in accordance with 1A158.3, “Allowable cost”, therefore, the cost for the contingency fees is disapproved. The approved amount was reduced from that amount requested due to the disapproved amount.

Brief Description of Projects Approved for Collection Only:

Design and construct snow removal equipment maintenance facility.

Design and construction of airport perimeter fence.

Design and reconstruct general aviation ramp.

Acquire snow removal equipment.

Decision Date: December 15, 2000.

FOR FURTHER INFORMATION CONTACT: Oscar Sanchez, Harrisburg Airports District Office, (717) 730-2834.

Public Agency: Dubuque Airport Commission, Dubuque, Iowa.

Application Number: 00-05-C-00-DBQ.

Application Type: Impose and use a PFC.

PFC Level: $4.50.

Total PFC Revenue Approved in This Decision: $631,592.

Earliest Charge Effective Date: January 1, 2002.

Estimated Charge Expiration Date: March 1, 2004.

Class of Air Carriers Not Required to Collect PFC's: None.

Brief Description of Projects Approved for Collection and Use:

Pave runway 18/36 extension.

Rehabilitate runway 18/36.

Installation of instrument landing system and medium intensity approach lighting system with runway alignment indicator lights for runway 36.

Airfield operations area fencing and wildlife assessment.

Decision Date: December 19, 2000.

FOR FURTHER INFORMATION CONTACT: Lorna Sandridge, Central Region Airports Division, (816) 329-2641.

Public Agency: Sanford Airport Authority, Sanford, Florida.

Application Number: 00-01-C-00-SFB.

Application Type: Impose and use a PFC.

PFC Level: $1.00.

Total PFC Revenue Approved in this Decision: $1,100,332.

Earliest Charge Effective Date: March 1, 2001.

Estimated Charge Expiration Date: March 1, 2003.

Class of Air Carriers Not Required to Collect PFC's: None.

Brief Description of Projects Approved for Collection and Use:

Airfield signage.

Airport master plan update/update three dimensional airspace analysis program/Part 150/environmental assessment for airport access road.

Aircraft rescue and firefighting vehicles.

Taxiway B west extension.

Part 107 security system.

Relocate precision approach path indicator to runway 9R/27L.

Part 150 noise study.

Runway 9R/27L lights (medium intensity runway lights).

Airport master plan.

Americans with Disabilities Act lift device.

Brief Description of Project Approved in Part for Collection and Use:

Domestic terminal expansion.

Determination: Partially approved. In the airline consultation prior to submission of this application, the public agency provided information to the air carriers indicating that the amount of PFC revenue to be requested for this project would be $797,403. However, the application as submitted requested PFC revenue in the amount of $9,893,978 for this project and there was no evidence submitted of further consultation with the air carriers on this higher amount. Therefore, the FAA limited its approval to the amount which was provided in the consultation meeting.

Construct aircraft rescue and firefighting station.

Determination: Partially approved. In the airline consultation prior to submission of this application, the public agency provided information to the air carriers indicating that the amount of PFC revenue to be requested for this project would be $93,628. However, the application as submitted requested PFC revenue in the amount of $219,178 for this project and there was no evidence submitted of further consultation with the air carriers on this higher amount. Therefore, the FAA limited its approval to the amount which was provided in the consultation meeting.

Brief Description of Project Disapproved: Parking transition to west overflow lot.

Determination: The FAA has determined that this project is not AIP eligible and, therefore, does not meet the requirements of § 158.15(b). In accordance with AIP eligibility criteria found in Program Guidance Letter 93-3.2, non revenue parking lots are eligible only at commercial service airports which annual enplane 0.05 percent or less of the total annual enplanements nationwide. The current FAA enplanement data shows that SFB's are 0.062 percent of the nationwide enplanements.

Brief Description of Projects Withdrawn:

Runway 9R/27L and taxiways B and C.

Construct runway 9L/27R declared distance enhancement/construct access road phase 2.

Construct terminal access road including property acquisition.

Acquire land and construct replacement runway 9R/27L.

North side access road.

Airport master development plan.

Taxiway fillets.

Taxiways B and C rehabilitation.

Taxiway A-4 construction.

Taxiway A.

Electrical loop to terminal, air traffic control tower, and airfield.

Construct taxiway S, connectors, and lights.

Rehabilitate aviation ramps.

Reconstruct taxiways B, C and K.

Instrument landing system/medium intensity approach lighting system with runway end identifier lights.

Terminal area ramp reconstruction.

Determination: These projects were withdrawn by the public agency by letter dated November 3, 2000. Therefore, the FAA did not rule on these projects in this decision.

Decision date: December 27, 2000.

FOR FURTHER INFORMATION CONTACT: Armando L. Rovira, Orlando Airports District Office, (407) 812-6331, extension 31.

Amendments to PFC Approvals

Amendment No., city, state | Amendment approved date | Original approved net PFC revenue | Amended approved net PFC revenue | Original estimated charge exp. date | Amended estimated charge exp. date
* 93-01-C-02-CYS, Cheyenne, WY | 12/21/00 | $742,261 | $957,013 | 07/01/05 | 01/01/07
97-02-C-01-YNG, Youngstown, OH | 11/27/00 | 734,078 | 384,078 | 07/01/02 | 10/01/03
94-02-C-01-YKM, Yakima, WA | 9/13/00 | 14,745 | 14,670 | 06/01/95 | 06/01/95
* 98-05-I-01-JAC, Jackson, WY | 12/21/00 | 1,850,000 | 1,903,869 | 01/01/03 | 06/01/02
* 99-06-U-01-JAC, Jackson, WY | 12/21/00 | NA | NA | NA | NA
94-02-C-02-EYW, Key West, FL | 12/20/00 | 1,272,858 | 980,574 | 12/01/96 | 08/01/96
97-03-C-02-EYW, Key West, FL | 12/20/00 | 1,760,000 | 1,885,000 | 12/01/99 | 10/01/99
99-04-C-01-EYW, Key West, FL | 12/20/00 | 946,503 | 1,596,503 | 04/01/00 | 08/01/01
* 97-01-C-01-PGV, Greenville, NC | 12/15/00 | 453,648 | 494,986 | 11/01/01 | 07/01/01
* 92-01-C-02-SAV, Savannah, GA | 12/04/00 | 49,908,639 | 49,808,639 | 12/01/15 | 12/01/10
* 97-01-C-01-SAV, Savannah, GA | 12/04/00 | 1,111,931 | 1,111,931 | 11/01/16 | 07/01/11
Note: The amendments denoted by an asterisk (*) include a change to the PFC level charged from $3.00 per enplaned passenger to $4.50 per enplaned passenger. For Savannah, GA (92-01 amendment), Greenville, NC, Cheyenne, WY, and Jackson, WY, this change is effective on April 1, 2001. For Savannah, GA (98-03 amendment), this change is effective April 1, 2011.

Issued in Washington, DC, on January 30, 2001.
Eric Gabler,
Manager, Passenger Facility Charge Branch.

[FR Doc. 01-3312 Filed 2-7-01; 8:45 am]

BILLING CODE 4910-13-M